DEPARTMENT OF LABOR

Office of the Secretary

29 CFR Part 34

RIN 1291-AA39

Rescission of Regulations Implementing the Nondiscrimination and Equal Opportunity Provisions of the Job Training Partnership Act of 1982

AGENCY: Office of the Assistant Secretary for Administration and Management, Department of Labor.

ACTION: Proposed rule; withdrawal.

SUMMARY: The U.S. Department of Labor, Office of the Assistant Secretary for Administration and Management (OASAM) is withdrawing the proposed rule to rescind its regulations implementing Section 167 of the Job Training Partnership Act of 1982, as amended (JTPA). On September 26, 2018, OASAM simultaneously published in the Federal Register a notice of proposed rulemaking and a direct final rule to rescind its regulations implementing Section 167 of the JTPA. The comment period for the proposed rule and the direct final rule ended on October 26, 2018, and no adverse comments were received on either rule. The direct final rule is effective November 26, 2018.

DATES: The proposed rule published on September 26, 2018 (83 FR 48576), is withdrawn as of July 30, 2019.

ADDRESSES: Electronic copies of this Federal Register notice are available at http://www.regulation.gov.

FOR FURTHER INFORMATION CONTACT: Naomi Barry-Perez, Director, Civil Rights Center, U.S. Department of Labor, 200 Constitution Avenue NW, Room N-4123, Washington, DC 20210, telephone (202) 693-6500 (VOICE) or (800) 877-8339 (Federal Relay Service—for TTY), or by email at CRC-WIOA@dol.gov.

SUPPLEMENTARY INFORMATION: On September 26, 2018, OASAM simultaneously published in the Federal Register a notice of proposed rulemaking (83 FR 48576) and a direct final rule (83 FR 48542) to rescind its regulations implementing Section 167 of the JTPA. Section 167 contained the nondiscrimination and equal-opportunity provisions of the JTPA. In 1998, Congress passed the Workforce Investment Act (WIA), which repealed the JTPA and required the Secretary of Labor to transition any authority under the JTPA to the system that WIA created. WIA, in turn, was subsequently altered by the Workforce Innovation and Opportunity Act (WIOA). The JTPA's nondiscrimination and equal opportunity requirements were superseded by similar provisions in WIA, and more recently, WIOA. The current WIOA regulations governing nondiscrimination and equal opportunity are at 29 CFR part 38. In sum, the rule removes regulations for an inoperative program, but has no impact on existing non-discrimination rules.

OASAM explained that if no significant adverse comments were received during the comment period, then the direct final rule would become effective and OASAM would withdraw the proposed rule. The comment period for the proposed rule and the direct final rule ended on October 26, 2018. No adverse comments were received on either rule. The direct final rule is effective November 26, 2018. As such, the proposed rule is unnecessary and OASAM withdraws it.

Signed at Washington, DC, on July 19, 2019.
Bryan Slater,
Assistant Secretary, Office of the Assistant Secretary for Administration and Management, Department of Labor.

[FR Doc. 2019-16071 Filed 7-29-19; 8:45 am]

BILLING CODE 4510-FR-P